DEPARTMENT OF LABOR

Employment and Training Administration

[TA-W-64,088]

Rexam Closure Systems, Inc., Bowling Green, OH; Notice of Negative Determination on Reconsideration

On November 13, 2008, the Department issued an Affirmative Determination Regarding Application for Reconsideration for the workers and former workers of the subject firm. The notice was published in the Federal Register on November 25, 2008 (73 FR 71693).

The initial investigation resulted in a negative determination based on the finding that imports of plastic closures for plastic food industry packaging did not contribute importantly to worker separations at the subject firm and no shift of production to a foreign source occurred.

In the request for reconsideration the petitioner alleged that the subject firm “is shifting production of T-tops to China.”

On reconsideration the Department of Labor contacted a company official of the subject firm to address this allegation. The company official stated that during the initial phases of developing the closure plan, Rexam considered shifting production of T-Top product line to China. However, since then, Rexam has decided to sell or scrap the T-Top assets within the United States. Furthermore, the subject firm official confirmed that Rexam did not shift any production from the subject firm abroad.

The petitioner further alleged that “Rexam is closing in Bowling Green, Ohio due to loss of sales to global competitors.”

In order to establish an import impact on domestic production, the Department conducts a survey of the declining domestic customers of the workers' firm regarding their purchases of like or directly competitive products. The customer survey was not conducted in the initial investigation due to the fact that sales at the subject facility did not decline from 2006 to 2007 or from January through August 2008 over the corresponding period in 2007.

To address the petitioner allegations, the Department requested additional information from the subject firm regarding sales to customers. Further investigation revealed that the subject firm had declining customers in the relevant period. The Department surveyed these customers regarding their purchases of plastic closures (including like or directly competitive products) during 2006, 2007, and January through August 2008 over the corresponding 2007 period. The survey revealed no imports of plastic closures (including like or directly competitive products) during the relevant period.

The subject firm did not import plastic closures for plastic food industry packaging during the relevant period and no shift in production of plastic closures for plastic food industry packaging to a foreign source occurred.

Conclusion

After reconsideration, I affirm the original notice of negative determination of eligibility to apply for worker adjustment assistance for workers and former workers of Rexam Closure Systems, Inc., Bowling Green, Ohio.

Signed at Washington, DC, this 23rd day of December 2008.
Linda G. Poole,
Certifying Officer, Division of Trade Adjustment Assistance.

[FR Doc. E8-31330 Filed 1-5-09; 8:45 am]

BILLING CODE 4510-FN-P